ENVIRONMENTAL PROTECTION AGENCY

[CERCLA-04-2018-3762; FRL 10019-53-Region 4]

KOPPERS CO., Inc. (Charleston Plant), Charleston, North Carolina; Notice of Modified Settlement

AGENCY: Environmental Protection Agency (EPA).

ACTION: Notice of Modified Settlement.

SUMMARY: Under 122(h) of the Comprehensive Environmental Response, Compensation and Liability Act (CERCLA), the United States Environmental Protection Agency (EPA) has modified an existing settlement entered by the EPA and Prospective Purchaser (PP) Highland Resources for the Koppers Co., Inc. (Charleston Plant) Superfund National Priorities List (NPL) Site (“Site”) in Charleston, Charleston County, South Carolina. The existing Administrative Agreement on Consent (AOC) (CERCLA Docket No. 2018-3762) became effective on March 11, 2019. HR Charleston VII, LLC agreed to perform work at the Koppers Superfund Site to support redevelopment. This modification adds a newly acquired parcel which was not previously included in the agreement.

DATES: The Agency will consider public comments on the settlement until March 31, 2021. The Agency will consider all comments received and may modify or withdraw its consent to the modified settlement if comments received disclose facts or considerations which indicate that the settlement is inappropriate, improper, or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at 404/562-8887.

Dated: January 21, 2021.
Maurice Horsey,
Chief, Enforcement Branch, Superfund & Emergency Management Division.

[FR Doc. 2021-04128 Filed 2-26-21; 8:45 am]

BILLING CODE 6560-50-P